NUCLEAR REGULATORY COMMISSION

[Docket No. 70-1201]

Notice of Availability of Environmental Assessment and Finding of No Significant Impact for the Renewal of Special Nuclear Materials License for Framatome Advanced Nuclear Power, Inc., Lynchburg, VA

I. Introduction

The U.S. Nuclear Regulatory Commission (NRC) is considering renewal of NRC Special Nuclear Material License SNM-1168 for Framatome Advanced Nuclear Power, Inc. (FANP) in Lynchburg, VA. Initial operations at the FANP Lynchburg site with enriched uranium were authorized in December 1969. The license was renewed in April 1976, June 1983, and September 1991. The license was extended for 18 months on January 4, 2001.

By application dated March 28, 2002, FANP requested renewal of SNM-1168. FANP submitted an Environmental Report by letter dated March 28, 2002. The NRC published a Federal Register notice on August 9, 2002 (67 FR 51894), with a Notice of Opportunity for Hearing on the proposed action. No requests for a hearing were received.

The FANP facility conducts three types of operations: producing fuel assemblies for use in commercial light-water reactors, support activities for nuclear reactor field service operations, and general manufacturing. The activities covered under license SNM-1168 are the fabrication of fuel assemblies and support activities for nuclear reactor field service operations. The proposed renewal of license SNM-1168 is necessary for FANP to continue operation.

The NRC staff performed an Environmental Assessment (EA) in support of its review of FANP's renewal request, in accordance with the requirements of 10 CFR part 51. The conclusion of the EA is a Finding of No Significant Impact (FONSI) for the proposed licensing action.

II. EA Summary

The scope of the EA included an evaluation of the activities authorized under license SNM-1168, as well as other activities which could potentially affect licensed activities. Principal activities in the facility include the processing of low-enriched uranium (≤ 5.1%), received as UO2 pellets. Other activities conducted in conjunction with nuclear fuel fabrication include: fabrication of poison rods, download of finished fuel bundles and rods, repair of returned fuel assemblies, laboratory operations and waste disposal operations.

On the basis of its assessment, the NRC staff has concluded that the environmental impacts associated with the proposed license renewal for continued operation at the Lynchburg facility would not be significant and, therefore, the proposed action does not warrant the preparation of an environmental impact statement. All existing requirements for environmental monitoring and protection will be continued to evaluate future impacts.

III. Further Information

The full EA (ADAMS Accession No. ML030940720) and the following documents related to the proposed action, are available for inspection at NRC's Public Electronic Reading Room at http://www.nrc.gov/reading-rm/adams.html: (1) Framatome ANP, Inc., Response to the Request for Additional Information for License Renewal, SNM-1168, Docket No. 70-1201, November 8, 2002 (ADAMS Accession No. ML023230413); (2) Letter to Peter Lee re: Special Nuclear Material License Renewal of Framatome ANP, Mt. Athos Road Facility, #2708, Campbell County, VA, October 2, 2002 (ADAMS Accession No. ML022810449); (3) Application for License Renewal of SNM-1168, Docket No. 70-1201, March 28, 2002 (ADAMS Accession No. ML020940468); and, (4) Supplement to the Environmental Report, SNM-1168, Docket No. 70-1201, March 28, 2002 (ADAMS Accession No. ML020930031). These documents and B&W Fuel Company's letter to Robert Pierson re: Exemption from Emergency Plan, March 21, 1994, may also be examined and copies for a fee at the NRC's Public Document Room, located at One White Flint North, 11555 Rockville Pike, Rockville, MD 20852. Any questions with respect to this action should be referred to Ms. Julie Olivier, Fuel Cycle Facilities Branch, Division of Fuel Cycle Safety and Safeguards, U.S. Nuclear Regulatory Commission, Mail Stop T-8 A33, Washington, DC 20555-0001. Telephone (301)415-8089.

Dated in Rockville, Maryland, this 28th day of April, 2003.
For the Nuclear Regulatory Commission.
Susan M. Frant,
Chief, Fuel Cycle Facilities Branch, Division of Fuel Cycle Safety and Safeguards, Office of Nuclear Material Safety and Safeguards.

[FR Doc. 03-11304 Filed 5-6-03; 8:45 am]

BILLING CODE 7590-01-P